DEPARTMENT OF COMMERCE

Submission for OMB Review; Comment Request

The Department of Commerce will submit to the Office of Management and Budget (OMB) for clearance the following proposal for collection of information under the provisions of the Paperwork Reduction Act.

Agency: U.S. Census Bureau.

Title: Boundary and Annexation Survey & Boundary Validation Program.

OMB Control Number: 0607-0151.

Form Number(s): BAS 1, BAS 2, BAS 3, BAS 5, BAS 6, BAS ARF, BASSC, BVP 1, BVP 2.

Type of Request: Regular Submission.

Number of Respondents: 132,465.

Average Hours per Response: Varies.

Stage of review or response | Estimated time per response (hours)
Annual Response Notification | 0.5
No Change Response | 4
Telephone Follow-up | 0.5
Packages with Changes | 8
State Certification Review | 10
State Certification Local Review | 2
Boundary Quality Assessment Reconciliation Project | 25
Boundary Validation Program | 2

Respondent Burden Hour: 265,590 ¹

¹ The respondent burden hour was incorrectly estimated at 270,710 hours in the previously published 60-Day presubmission notice. This mistake is corrected in the 30-Day FRN.

Needs and Uses: The Boundary and Annexation Survey (BAS) is one of the seven voluntary geographic partnership programs that collect boundaries, addresses, and streets to update the U.S. Census Bureau's Master Address File/Topologically Integrated Geographic Encoding and Referencing database (MAF/TIGER). The Census Bureau uses its geographic database to link demographic data from surveys and the decennial census to locations and areas, such as cities, school districts, and counties. In order to tabulate statistics by localities, the Census Bureau must have accurate addresses and boundaries. The boundaries collected during the BAS and other geographic programs become bounding features for census blocks, which are the building blocks for all Census Bureau geographic boundaries. While the Census Bureau's geographic programs differ in requirements, time frame, and participants, the BAS and other geographic programs all follow the same basic process:

1. The Census Bureau invites eligible participants to the program. For the BAS, the Census Bureau invites legal governments.

2. If they elect to participate in the program, participants receive a copy of the boundaries or addresses that the Census Bureau has on file. BAS participants can choose to review and update their boundaries using Geographic Update Partnership Software—which is a free customized mapping software—paper maps, or their own mapping software.

3. Participants return their updates to the Census Bureau.

4. The Census Bureau processes and verifies all submissions for accuracy, and updates its geographic database with boundary or address updates submitted by the participants.

5. The Census Bureau uses the newly updated boundaries and addresses to tabulate statistics. The Census Bureau uses its geographic database to link demographic data from surveys and the decennial census to locations and areas, such as cities, congressional and legislative districts, and counties. To tabulate statistics by localities, the Census Bureau must have accurate addresses and boundaries.

The BAS annually updates incorporated place boundaries, minor civil divisions, counties, and the federally recognized American Indian areas inventory for compliance with responsibilities specified in the OMB Circular A-16, Governmental Units and Administrative and Statistical Boundaries Data Theme. BAS supports the spatial data steward responsibilities of the OMB E-Gov, Data.gov, The National Map, and updates to the Geographic Names Information Systems. The results of the BAS are needed to provide information documenting the creation of newly incorporated places, minor civil divisions, counties, federally recognized American Indian Areas (including American Indian reservations, and off-reservation trust lands). BAS also includes the dissolution of incorporated places and minor civil divisions, and changes in the boundaries of incorporated places, minor civil divisions, counties, and American Indian Areas. Alaska Native Regional Corporations will be updated in the 2020 Census Participant Statistical Areas Program rather than BAS. BAS information provides an appropriate record for reporting the results of the decennial census, economic census, the Population Estimates Program, and surveys such as the American Community Survey. In the year 2020, all legal documentation for inclusion in the 2020 Census must be effective January 1, 2020. All legal boundary changes will be placed on hold and updated during the 2021 BAS if effective January 2, 2020 or later.

The BAS universe and mailing materials vary depending both upon the needs of the Census Bureau in fulfilling its censuses and household surveys and upon budget constraints. Counties or equivalent entities, federally recognized American Indian reservations, off-reservation trust lands, and tribal subdivisions are included in every BAS.

There are projects to support the BAS among various levels of governments and obtain the most accurate boundary information. These are the:

• Boundary Quality Assessment and Reconciliation Project.

• Boundary Validation Program.

• State Certification Program.

The Boundary Quality and Reconciliation Project (BQARP) supports the BAS program, improves boundary quality in the Census Bureau's MAF/TIGER database and lessens the burden on BAS participants. BQARP works with state level cadastral or geographic information system coordinators to update state, county and incorporated place boundaries. The BAS would then continue the collection of annexations and de-annexations on a transaction basis as they occur over time. Ensuring quality and spatially accurate boundaries is a critical component of the geographic preparations for the 2020 Census and the Census Bureau's ongoing geographic partnership programs and surveys. In addition, the improvement of boundary quality is an essential element of the Census Bureau's commitment as the responsible agency for legal boundaries under the OMB Circular A-16.

The Census Bureau will conduct the 2020 Boundary Validation Program (BVP) in conjunction with the 2020 BAS. The BVP is a part of BAS conducted in preparation for the decennial census. The Census Bureau conducts the BVP every ten years to provide the highest elected or appointed officials of tribal and local governments an opportunity to review the boundary data collected during the BAS over the last decade. The 2020 BVP will cover:

• All actively functioning counties or statistically equivalent entities.

• Incorporated places (including consolidated cities).

• All actively functioning minor civil divisions.

• All federally recognized American Indian reservations and off-reservation trust land entities in the United States.

• Municipios, barrios, barrio-pueblos and subbarrios in Puerto Rico.

In addition, the Census Bureau will send a letter to the governor of each state explaining the 2020 BVP process and advising them the Census Bureau will review the state boundaries in conjunction with relevant county boundaries as part of the BVP.

The Census Bureau will conduct the 2020 BVP in two phases, initial and final. During the initial BVP phase, every highest elected official in the BAS universe will receive a BVP form, a letter with instructions, and paper maps or a CD/DVD containing a complete set of 2020 BAS maps in PDF format for their governmental unit with the option to request other formats. The Census Bureau asks the highest elected official to review their boundaries and return the BVP form within ten days of receipt. If the highest elected official determines that there are no changes to report, the highest elected official will sign and return the validated BVP form. If the highest elected official determines that their entity requires boundary changes, the Census Bureau requests the highest elected official to work with their BAS contact to submit boundary changes through the 2020 BAS process. If either the highest elected official or the BAS contact submits 2020 BAS boundary updates, effective as of January 1, 2020, or before, by the deadline of March 1, 2020, the entity will be included in the final phase of the BVP. The government will have the option to submit the corrections on either paper or digital maps.

In the final BVP phase, once the Census Bureau applies the participant's 2020 BAS boundary updates to the MAF/TIGER database, the Census Bureau will provide each highest elected official a complete set of updated 2020 BAS maps or shapefiles. The governments may request CD/DVD, download or plotted paper maps. This is their final opportunity to review the boundary and verify that the Census Bureau clearly reflects the correct boundary in the MAF/TIGER database, effective January 1, 2020, for the 2020 Census. In the final BVP phase, each highest elected official submits any remaining corrections within five days directly to the Census Bureau using the instructions provided in the BAS respondent guide.

The final stage of BAS is the annual State Certification Program. This program allows state level agencies to verify that the status and boundary updates received through the previous years' BAS updates were accomplished according to state law. The State Certification Program will be held in 2018 and 2019. The BVP replaces the State Certification in 2020. During each cycle of this program, Governor-designated state certifying officials review listings of incorporated place legal boundary and functional status changes reported to the BAS during the previous year. The extent of the State Certification program varies depending on the laws governing annexations, deannexations, incorporations, and disincorporations in the given state. Some states have strong laws that require local governments to report legal boundary changes to the state government. In these states, the state certifying official is able to certify, edit, add, or reverse reported annexations, and may mark a legal boundary change as a duplicate of a previously reported change. In these states, the state certifying official also has the authority to request that the Census Bureau edit or delete information received from the local government. In states that do not require local governments to report legal boundary changes to the state, the Census Bureau will not edit or delete information without confirmation from the local government. If the state certifying official adds legal boundary changes missing from the Census Bureau's annexation list, the Census Bureau will contact the local government to request information. The State Certification program helps to ensure that all levels of government represent boundaries consistently and accurately.

The data and information collected from the BAS and BVP serve tribal, federal, state and local governments, and the private sector. The BVP provides validation for the information collected through the BAS. The BAS is the primary provider for the following services and products:

(1) Classify data collected in the periodic decennial and economic censuses and annual surveys.

(2) Serve as the primary source of information regarding new incorporations, disincorporations, and other changes in the local and tribal government inventory for the Federal Information Processing Series and Geographic Names Information Systems programs, tribal, state and local officials, and private data users.

(3) Update its estimates of the population as a result of the creation of new governments, the dissolution of governments, or changes in boundaries for existing local or tribal governments.

(4) Serve as the source for governmental unit boundary information as a framework layer of the National Spatial Data Infrastructure for The National Map and the data.gov website.

Information quality is an integral part of the pre-dissemination review of the information disseminated by the Census Bureau. Information quality is also integral to the information collections conducted by the Census Bureau, and we incorporate it into the clearance process as required by the Paperwork Reduction Act of 1995.

Affected Public: Tribal, state and local governments.

Frequency: Annually.

Respondent's Obligation: Voluntary.

Legal Authority: Title 13, U.S.C., Section 6.

This information collection request may be viewed at www.reginfo.gov. Follow the instructions to view Department of Commerce collections currently under review by OMB.

Written comments and recommendations for the proposed information collection should be sent within 30 days of publication of this notice to OIRA_Submission@omb.eop.gov or fax to (202)395-5806.

Sheleen Dumas,
Departmental Lead PRA Officer, Office of the Chief Information Officer.

[FR Doc. 2018-18443 Filed 8-24-18; 8:45 am]

BILLING CODE 3510-07-P